DEPARTMENT OF COMMERCE

International Trade Administration

[A-351-832]

Carbon and Certain Alloy Steel Wire Rod From Brazil: Rescission of Antidumping Duty Administrative Review; 2016-2017

AGENCY: Enforcement and Compliance, International Trade Administration, Department of Commerce.

SUMMARY: The Department of Commerce (Commerce) is rescinding the administrative review of the antidumping duty order on carbon and certain alloy steel wire rod from Brazil for the period October 1, 2016, through September 30, 2017, based on the timely withdrawal of the request for review.

DATES: Applicable March 19, 2018.

FOR FURTHER INFORMATION CONTACT: Edythe Artman or Brian Davis, AD/CVD Operations, Office VI, Enforcement and Compliance, International Trade Administration, U.S. Department of Commerce, 1401 Constitution Avenue NW, Washington, DC 20230; telephone: (202) 482-3931 or (202) 482-7924, respectively.

SUPPLEMENTARY INFORMATION:

Background

On October 4, 2017, Commerce published in the Federal Register a notice of opportunity to request an administrative review of the antidumping duty order on carbon and certain alloy steel wire rod from Brazil for the period October 1, 2016, through September 30, 2017.¹ On October 30, 2017, Commerce received a timely request, in accordance with section 751(a) of the Tariff Act of 1930, as amended (the Act), to conduct an administrative review of this antidumping duty order with respect to five companies and their affiliates from Nucor Corporation (Nucor), a domestic producer of carbon wire rod products.² Based on this request, and in accordance with section 751(a) of the Act, Commerce published a notice of initiation of the review in the Federal Register on December 7, 2017, in which we initiated reviews of the following companies: ArcelorMittal Brasil SA, Siderurgica Norte Brasil SA, Sinobras, Villares Metals SA, and Votorantim Siderurgica.³ On January 31, 2018, Nucor filed a timely withdrawal of its request for a review for each of the companies.⁴

¹ See Antidumping or Countervailing Duty Order, Finding, or Suspended Investigation; Opportunity to Request Administrative Review, 82 FR 46217 (October 4, 2017).

² See Petitioner Letter, “Carbon and Certain Alloy Steel Wire Rod from Brazil: Request for Administrative Review,” dated October 30, 2017 (Review Request).

³ See Initiation of Antidumping and Countervailing Duty Administrative Reviews, 82 FR 57705 (December 7, 2017) (Initiation Notice). See also Memorandum, “Antidumping Duty Administrative Review of Carbon and Certain Alloy Steel Wire Rod from Brazil; Company Names in Forthcoming Initiation Notice,” dated November 9, 2017, which explains the difference in names between the Review Request and Initiation Notice.

⁴ See Petitioner Letter, “Carbon and Certain Alloy Steel Wire Rod: Withdrawal of Request for Administrative Review,” dated January 31, 2018.

Commerce exercised its discretion to toll all deadlines affected by the closure of the federal government from January 20 through January 22, 2018. If the new deadline falls on a non-business day, in accordance with Commerce's practice, the deadline will become the next business day. If we were not rescinding this review, the revised deadline for the preliminary results of review would be July 6, 2018.

Rescission of Review

Pursuant to 19 CFR 351.213(d)(1), the Secretary will rescind an administrative review, in whole or in part, if a party who requested the review withdraws the request within 90 days of the date of publication of notice of initiation of the requested review. As noted above, Nucor withdrew its request for review by the 90-day deadline. Accordingly, in response to the timely filed withdrawal of the request for review and in accordance with 19 CFR 351.213(d)(1), we are rescinding the administrative review of the antidumping duty order on carbon and certain alloy steel wire rod from Brazil covering the period October 1, 2016, through September 30, 2017.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a violation which is subject to sanction.

This notice is issued and published in accordance with sections 751(a)(1) and 777(i)(1) of the Act and 19 CFR 351.213(d)(4).

Dated: March 13, 2018.
James Maeder,
Associate Deputy Assistant Secretary for Antidumping and Countervailing Duty Operations performing the duties of Deputy Assistant Secretary for Antidumping and Countervailing Duty Operations.

[FR Doc. 2018-05483 Filed 3-16-18; 8:45 am]

BILLING CODE 3510-DS-P